ENVIRONMENTAL PROTECTION AGENCY

[FRL-10015-06-OA]

Notice of Meeting of the EPA Children's Health Protection Advisory Committee (CHPAC)

AGENCY: Environmental Protection Agency (EPA).

ACTION: Notice.

SUMMARY: Pursuant to the provisions of the Federal Advisory Committee Act, notice is hereby given that the next meeting of the Children's Health Protection Advisory Committee (CHPAC) will be held virtually October 22, 2020. The CHPAC advises the Environmental Protection Agency (EPA) on science, regulations and other issues relating to children's environmental health.

DATES: October 22, 2020 from 2 p.m. to 5 p.m.

ADDRESSES: The meeting will take place virtually. If you want to listen to the meeting or provide comments, please email louie.nica@epa.gov for further details.

FOR FURTHER INFORMATION CONTACT: Nica Louie, Office of Children's Health Protection, U.S. EPA, MC 1107T, 1200 Pennsylvania Avenue NW, Washington, DC 20460, (202) 564-7633 or louie.nica@epa.gov.

SUPPLEMENTARY INFORMATION: The meetings of the CHPAC are open to the public. An agenda will be posted to https://www.epa.gov/children/childrens-health-protection-advisory-committee-chpac.

Access and Accommodations: For information on access or services for individuals with disabilities, please contact Nica Louie at 202-564-7633 or louie.nica@epa.gov.

Dated: September 16, 2019.
Nica Mostaghim,
Environmental Health Scientist.

[FR Doc. 2020-21143 Filed 9-24-20; 8:45 am]

BILLING CODE 6560-50-P